DEPARTMENT OF COMMERCE

International Trade Administration

[C-423-809]

Stainless Steel Plate in Coils from Belgium; Extension of Final Results of Expedited Sunset Review of Countervailing Duty Order

AGENCY: Import Administration, International Trade Administration, Department of Commerce.

ACTION: Notice of Extension of Time Limit for Final Results of Expedited Sunset Review: Stainless Steel Plate in Coils from Belgium.

SUMMARY: The Department of Commerce (“the Department”) is extending the time limit for its final results in the expedited sunset review of the countervailing duty order on stainless steel plate in coils (“SSPC”) from Belgium. Based on adequate responses from the domestic interested parties and inadequate responses from respondent interested parties, the Department is conducting an expedited sunset review to determine whether revocation of the CVD order would lead to the continuation or recurrence of a countervailable subsidy. As a result of this extension, the Department intends to issue final results of this sunset review on or about August 30, 2004.

EFFECTIVE DATE: August 4, 2004.

FOR FURTHER INFORMATION CONTACT: Hilary E. Sadler, Esq., Import Administration, International Trade Administration, U.S. Department of Commerce, 14th Street & Constitution Avenue, NW., Washington, DC 20230; telephone: (202) 482-4340.

Extension of Final Results: In accordance with section 751(c)(5)(C)(ii) of the Tariff Act of 1930, as amended (“the Act”), the Department may treat sunset reviews as extraordinarily complicated if the issues are complex. As discussed below, the Department has determined that these issues are extraordinarily complicated. On April 1, 2004, the Department initiated a sunset review of the countervailing duty order on SSPC from Belgium. See Initiation of Five-Year (Sunset) Reviews, 69 FR 17129 (April 1, 2004). The Department, in this proceeding, determined that it would conduct an expedited sunset review of this order based on responses from the domestic and respondent interested parties to the notice of initiation. The Department's final results of this review were scheduled for July 30, 2004. However, several issues have arisen regarding the revised net subsidy rate of the order with respect to U & A Belgium and its effect on this sunset review. See Final Results of Redetermination pursuant to Court Remand: ALZ v. United States, Slip Op. 03-81, Court No. 01-00834 (CIT July 1, 2003) and ALZ N.V. v. United States, Slip Op. 04-38, Court No. 01-00834 (CIT April 22, 2004) and SSPC from Belgium: Notice of Decision of the Court of International Trade, 69 FR 26075 (May 11, 2004).

Because of the complex issues in this proceeding, the Department will extend the deadline for issuance of the final results. Thus, the Department intends to issue the final results on or about August 30, 2004 in accordance with section 751(c)(5)(B).

Dated: July 29, 2004.
Jeffrey A. May,
Acting Assistant Secretary for Import Administration.

[FR Doc. 04-17819 Filed 8-3-04; 8:45 am]

BILLING CODE 3510-DS-P